NATIONAL CREDIT UNION ADMINISTRATION

Request for Comment Regarding National Credit Union Administration Draft 2018-2022 Strategic Plan

AGENCY: National Credit Union Administration (NCUA).

ACTION: Notice and request for comment.

SUMMARY: The NCUA Board (Board) is requesting comment on its 2018-2022 Draft Strategic Plan. The NCUA 2018-2022 Draft Strategic Plan summarizes our analysis of the internal and external environment impacting NCUA; evaluates NCUA programs and risks; and provides goals and objectives for the next five years. While the Board welcomes all comments from the public and stakeholders, it specifically invites comments and input on the proposed goals and objectives of the strategic plan.

DATES: Comments must be received on or before December 4, 2017 to be assured of consideration.

ADDRESSES: You may submit comments by any of the following methods (Please send comments by one method only):

• NCUA Web site: https://www.ncua.gov/about/pages/board-comments.aspx. Follow the instructions for submitting comments.

• Email: Address to boardcomments@ncua.gov. Include “[Your name]—Comments on NCUA 2018-2022 Draft Strategic Plan” in the email subject line.

• Fax: (703) 518-6319. Include your name and the following subject line: “Comments on NCUA 2018-2022 Draft Strategic Plan.”

• Mail: Address to Gerard Poliquin, Secretary of the Board, National Credit Union Administration, 1775 Duke Street, Alexandria, Virginia 22314-3428.

• Hand Delivery/Courier: Same as mail address.

Public Inspection: You can view all public comments on NCUA's Web site at https://www.ncua.gov/about/pages/board-comments.aspx as submitted, except for those we cannot post for technical reasons. NCUA will not edit or remove any identifying or contact information from the public comments submitted. You may inspect paper copies of comments at NCUA's headquarters at 1775 Duke Street, Alexandria, Virginia 22314, by appointment weekdays between 9 a.m. and 3 p.m. To make an appointment, call (703) 518-6570 or send an email to boardcomments@ncua.gov.

FOR FURTHER INFORMATION CONTACT: Melissa Lowden, Management Analyst, National Credit Union Administration, 1775 Duke Street, Alexandria, Virginia 22314-3428 or telephone: (703) 518-1182.

Authority: 5 U.S.C. 306.

SUPPLEMENTARY INFORMATION: The Government Performance and Results Act of 1993 (GPRA) requires agencies to prepare strategic plans, annual performance plans and annual performance reports with measurable performance indicators to address the policy, budgeting and oversight needs of both Congress and agency leaders, partners/stakeholders, and program managers. In 2010, Congress passed the GPRA Modernization Act of 2010, which further requires a leadership-driven governance model with emphasis on quarterly reviews and transparency. The GPRA Modernization Act requires agencies to set priority goals linked to longer-term Agency strategic goals. Part 6 of Office of Management and Budget (OMB) Circular A-11 provides additional guidance and requirements for federal agencies to implement these laws. The NCUA Draft Strategic Plan 2018-2022 is issued pursuant to the GPRA, the GPRA Modernization Act, and OMB Circular A-11.

The NCUA 2018-2022 Draft Strategic Plan outlines how the agency will continue to effectively supervise and insure a growing and evolving credit union system. As the financial services and the credit union sector evolve, NCUA must adjust to meet the challenges the changes provide. In response, we are adopting new technology and analytical tools to improve the agency's offsite monitoring capabilities. Additionally, we are recalibrating our examination approach to reflect a more stable economic environment. We also are revising the agency's operations, priorities and structure to ensure our objectives match those prescribed in the Federal Credit Union Act, while at the same time efficiently using the agency's resources.

In the years ahead, NCUA also plans to advance meaningful regulatory relief by fully reevaluating our rules and working to modify them as appropriate, improving the uniformity of examinations, implementing an improved examination appeals process, and mitigating the largest risks to the Share Insurance Fund.

By publishing the proposed NCUA 2018-2022 Strategic Plan in the Federal Register, as well as posting it on our Web site at www.ncua.gov, NCUA continues its ongoing commitment to transparency about the agency's future plans and actions.

The NCUA 2018-2022 Draft Strategic Plan is available at the following Web address: https://www.ncua.gov/About/Pages/budget-strategic-planning/annual-plan.aspx.

By the National Credit Union Administration Board on September 28, 2017.
Gerard Poliquin,
Secretary of the Board.

[FR Doc. 2017-21304 Filed 10-3-17; 8:45 am]

BILLING CODE P